DEPARTMENT OF JUSTICE

Notice of Lodging Proposed Consent Decree

In accordance with Departmental Policy, 28 CFR 50.7, notice is hereby given that a proposed Consent Decree in United States v. Acquest Transit, LLC, et al., No. 09-cv-55, was lodged with the United States District Court for the Western District of New York on September 3, 2021.

This proposed Consent Decree concerns a complaint filed by the United States against Defendants Acquest Transit, LLC, Acquest Development LLC, and William L. Huntress, pursuant to 33 U.S.C. 1319, to obtain injunctive relief from and impose civil penalties against the Defendants for violating the Clean Water Act by discharging pollutants without a permit into waters of the United States. The proposed Consent Decree resolves these allegations by requiring the Defendants to make a payment to the New York State Department of Environmental Conservation Natural Resource Damages Fund.

The Department of Justice will accept written comments relating to this proposed Consent Decree for thirty (30) days from the date of publication of this Notice. Please address comments to Tsuki Hoshijima, Post Office Box 7611, Washington, DC 20044-7611, pubcomment_eds.enrd@usdoj.gov and refer to United States v. Acquest Transit, LLC, et al., DJ # 90-5-1-1-18377.

The proposed Consent Decree may be examined at the Clerk's Office, United States District Court for the Western District of New York, 2 Niagara Square, Buffalo, NY 14202. In addition, the proposed Consent Decree may be examined electronically at http://www.justice.gov/enrd/consent-decrees.

Cherie Rogers,
Assistant Section Chief, Environmental Defense Section, Environment and Natural Resources Division.

[FR Doc. 2021-19507 Filed 9-9-21; 8:45 am]

BILLING CODE 4410-15-P